NUCLEAR REGULATORY COMMISSION

[NRC-2009-0492]

Draft Regulatory Guide: Issuance, Availability

AGENCY: Nuclear Regulatory Commission.

ACTION: Notice of Issuance and Availability of Draft Regulatory Guide, DG-6008, “Preparation of an Environmental Report to Support a Rulemaking Petition Seeking an Exemption for a Radionuclide-Containing Product.”

FOR FURTHER INFORMATION CONTACT: Catherine R. Mattsen, U.S. Nuclear Regulatory Commission, Washington, DC 20555-0001, telephone: (301) 415-6264 or e-mail Catherine.Mattsen@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Preparation of an Environmental Report to Support a Rulemaking Petition Seeking an Exemption for a Radionuclide-Containing Product,” is temporarily identified by its task number, DG-6008, which should be mentioned in all related correspondence. DG-6008 is proposed Revision 2 of Regulatory Guide 6.7, dated June 1976.

This guidance document provides general procedures for the preparation of environmental reports (ER), which are submitted to support a rulemaking petition for an exemption for a radionuclide-containing product, and it amends Revision 1 of Regulatory Guide 6.7 issued June 1976. Use of this regulatory guide will help to ensure the completeness of the information provided in the ER, assist staff of the U.S. Nuclear Regulatory Commission (NRC) and others in locating pertinent information, and facilitate the environmental review process. However, the NRC does not require conformance with the procedures, which are provided for guidance only.

II. Further Information

The NRC staff is soliciting comments on DG-6008. Comments may be accompanied by relevant information or supporting data and should mention DG-6008 in the subject line. Comments submitted in writing or in electronic form will be made available to the public in their entirety through the NRC's Agencywide Documents Access and Management System (ADAMS). Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID [NRC-2009-0492]. Address questions about NRC dockets to Carol Gallagher, 301-492-3668; e-mail Carol.Gallagher@nrc.gov.

3. Fax comments to: Rulemaking and Directives Branch, Office of Administration, U.S. Nuclear Regulatory Commission at (301) 492-3446.

Requests for technical information about DG-6008 may be directed to the NRC contact, Catherine R. Mattsen at (301) 415-6264 or e-mail Catherine.Mattsen@nrc.gov.

Comments would be most helpful if received by January 8, 2010. Comments received after that date will be considered if it is practical to do so, but the NRC is able to ensure consideration only for comments received on or before this date. Although a time limit is given, comments and suggestions in connection with items for inclusion in guides currently being developed or improvements in all published guides are encouraged at any time.

Electronic copies of DG-6008 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML092170207.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 4th day of November 2009.
For the Nuclear Regulatory Commission.
John N. Ridgely,
Acting Chief, Regulatory Guide Development Branch, Division of Engineering, Office of Nuclear Regulatory Research.

[FR Doc. E9-27155 Filed 11-10-09; 8:45 am]

BILLING CODE 7590-01-P